GENERAL SERVICES ADMINISTRATION

[Notice-PBS-2022-07; Docket No. 2022-0002; Sequence No. 28]

Notice of Intent To Prepare a Supplemental Environmental Impact Statement (SEIS) for the International Falls Land Port of Entry Modernization and Expansion Project in International Falls, Minnesota

AGENCY: Public Buildings Service (PBS), General Services Administration (GSA).

ACTION: Notice of Intent (NOI); Announcement of meeting.

SUMMARY: The GSA intends to prepare a Supplemental Environmental Impact Statement (SEIS) and conduct the Section 106 Process of the National Historic Preservation Act (NHPA) to address proposed improvements at the International Falls Land Port of Entry (LPOE), including site expansion (up to 20.5 acres), demolition, and new construction. This NOI also announces the public scoping process for the SEIS.

DATES: Public Scoping Period—Interested parties are invited to provide comments regarding the scope of the SEIS. The public scoping period begins with the publication of this NOI in the Federal Register and continues until Friday, January 13, 2023. Written comments must be received by the last day of the scoping period (see ADDRESSES section of this NOI on how to submit comments).

Meeting Date—GSA will host a hybrid virtual and in-person public and stakeholder meeting on Tuesday, December 13, 2022, from 6 p.m. to 8 p.m., Central Standard Time (CST). The purpose of the meeting is to provide information on the project and to encourage public feedback on the scope of the SEIS. The meeting will be primarily virtual in nature, although members of the public may attend at the Koochiching County Court Administration Building to view an online broadcast of the meeting in person (see ADDRESSES section for location address). Refer to the VIRTUAL PUBLIC MEETING INFORMATION section of this NOI on how to access the online public meeting.

ADDRESSES: Meeting Location—The public may attend the virtual meeting at the Koochiching County Court Administration building at 715 4th Street, 3rd floor, International Falls, MN, 56649, to view the online presentation in-person. A GSA staff member will be available (in-person and virtually) to assist the public in providing public comments via the virtual platform.

Public Scoping Comments

In addition to oral comments and written comments provided at the public meeting, members of the public may also submit comments by one of the following methods. All oral and written comments will be considered equally and will be part of the public record.

• Email: michael.gonczar@gsa.gov. Please include `International Falls LPOE SEIS' in the subject line of the message.

• Mail: ATTN: Michael Gonczar, International Falls LPOE SEIS; U.S. General Services Administration, Region 5; 230 S. Dearborn Street, Suite 3600, Chicago, IL 60604.

Virtual Public Meeting Information

The hybrid virtual public meeting will begin with presentations on the NEPA and NHPA processes and the proposed project. A copy of the presentation slideshow will be made available prior to the meeting at: https://www.gsa.gov/real-estate/gsa-properties/land-ports-of-entry-and-the-bil/bipartisan-infrastructure-law-construction-project/minnesota. Following the presentation, there will be a moderated session during which members of the public can provide oral comments on the SEIS. Members participating virtually or attending in-person will be able to comment. Commenters will be allowed 3 minutes to provide comments. Comments will be recorded. Attendees can also provide written comments at the public meeting should they not wish to speak.

Members of the public may join the SEIS virtual public meeting by entering the Meeting ID: 817 8441 8631, using any of the below methods, or by using the following link https://us06web.zoom.us/j/81784418631. Note that the meeting is best viewed through the Zoom app. Attendees are encouraged to download the Zoom app at the Zoom website (https://zoom.us) on their personal computer or on their mobile device and test their connection prior to the meeting to ensure best results.

• By personal computer (via the Zoom app)—Install the Zoom app at the Zoom website (https://zoom.us) and launch the Zoom app. Click `Join a Meeting' and enter the above Meeting ID. Follow the prompts to enter your name and email address to access the meeting; or

• By personal computer (via the Zoom website)—Using your computer's browser, go to the Zoom website at http://zoom.us/join and enter the above Meeting ID. Click `Join from your browser' and follow the prompts to enter your name; or

• By mobile device (via the Zoom mobile app)—Install and launch the Zoom app. Enter the above Meeting ID.

Whether joining through the Zoom app or web browser, attendees should follow the prompts to connect their computer audio. Attendees are encouraged to connect through the `Computer Audio' tab and click `Join Audio by Computer' under the `Join Audio' button on the bottom of their screen. Users who do not have a computer microphone and wish to provide a comment during the meeting may connect by following the prompts under the `Phone Call' tab under the `Join Audio' button.

For members of the public who do not have access to a personal computer, they may join the meeting audio by dialing the following number: 646 931 3860. When prompted, enter the following information: Meeting ID-817 8441 8631, followed by the pound (#) key; then press pound (#) again when prompted for a participant ID. Note, dialing in to the meeting is only necessary if you are not accessing the meeting through a personal computer or mobile app, or if you would like to provide oral comments during the meeting but do not have a computer microphone.

The public meeting will be recorded, and all comments provided will become part of the formal record.

FOR FURTHER INFORMATION CONTACT: Michael Gonczar, NEPA Program Manager, GSA, 312-810-2326, michael.gonczar@gsa.gov.

SUPPLEMENTARY INFORMATION:

Scoping Process

The purpose of the public scoping process is to identify relevant issues that will influence the scope of analysis of the human and natural environment including cultural resources. The scoping process will be accomplished through a hybrid virtual and in-person public scoping meeting, direct mail correspondence to appropriate federal, state, and local agencies, and to private organizations and citizens who have previously expressed, or are known to have, an interest in the project. The SEIS will include public input on alternatives and impacts.

The public scoping meeting will also initiate GSA's public consultation required by NHPA. GSA seeks input at this meeting that will assist the agency in planning for the Section 106 consultation process. This includes identifying consulting parties, determining the area of the undertaking's potential effects on cultural resources (Area of Potential Effects), and seeking agreement regarding ways to avoid, minimize, or mitigate adverse effects. Federal, state, and local agencies, along with members of the public, are invited to participate in the NEPA scoping and Section 106 consultation process.

The NHPA and NEPA are two separate laws which require federal agencies to consider the impacts to historic properties and the human environment before making decisions. NHPA and NEPA are independent statutes, yet may be executed concurrently to optimize efficiencies, transparency, and accountability to better understand the effects to the human, natural, and cultural environment. The SEIS will be prepared pursuant to the requirements of the NEPA of 1969, the Council on Environmental Quality NEPA regulations, and the GSA Public Buildings Service NEPA Desk Guide. GSA will also consult with appropriate parties in accordance with Section 106 of the NHPA of 1966.

Opportunities for members of the public to become a consulting party during the NHPA Section 106 process will be presented during the public scoping meeting. You may submit a comment to express your interest in being a consulting party if you cannot attend the meeting.

Background

The existing 1.6-acre LPOE is located on the south bank of the Rainy River and serves as the port of entry to people and vehicles crossing the International Bridge that connects International Falls, Minnesota to the town of Fort Frances, Ontario, Canada. The International Falls Land Port of Entry Improvements Study Final EIS, released in 2011, assessed the potential environmental impacts associated with the proposed action of replacing the undersized International Falls LPOE with a new LPOE facility “to improve safety, security, and functionality.” A total of ten build alternatives were considered, and a preferred action alternative was identified. This alternative would consist of demolishing the existing building, constructing new facilities at the existing LPOE, and expanding the LPOE to meet the required space standards and increased security requirements of the Federal Inspection Services. This alternative would move the majority of the LPOE improvements and operations to an approximately 20-acre site southeast of the existing site between 4th Street and Rainy River. GSA signed and released a Record of Decision in January 2012 that identified a preferred alternative as it best satisfied the purpose and needs of the project with the least overall adverse impacts to the environment. The ROD stated that the preferred alternative would have less-than-significant impacts on the natural and social environment of the study area and International Falls, including minor changes or impacts to surface water, surface water runoff, traffic, increased lighting, and hazardous substances.

Since 2011, GSA has identified the following changes to the project, which differ from the preferred alternative described in the 2011 EIS:

• There have been proposed changes in tenants and use of the space. U.S. Food and Drug Administration (FDA) no longer requires space at the LPOE; however, the U.S. Department of Agriculture/Animal Plant Health Inspection Services/-Plant Protection and Quarantine (USDA/APHIS-PPQ), and U.S. Fish and Wildlife Service (USFWS) will need space and facilities at the LPOE.

• The Packaging Corporation of America (PCA) has acquired Boise, Inc. and has a different timber unloading operation occurring adjacent to the proposed acquisition parcel, which will require modifications to the original site plan.

• PCA's proposed trailer parking lot was shifted further east (beyond First Creek) and includes a paved 90-trailer parking lot for PCA, which will modify traffic patterns for the LPOE.

• A section of First Creek between Route 11 and the Rainy River that was previously contained in a culvert was identified following the 2011 EIS. The culvert has been removed and is now daylighted, requiring impacts analysis.

• There has been an increase in the proposed usable square feet (USF) for overall building space needed from 42,282 to 80,611, based on the addition of a maintenance building and expansion in the sizes of all other buildings per updated agency requirements.

• Stormwater management would be redesigned in the 300-foot section of First Creek due to two new areas of pavement crossing the creek.

• The Resolute Paper Mill in Fort Frances, Ontario has since closed and has decreased rail traffic.

GSA is preparing an SEIS to assess the potential impacts of these updates, which were not assessed in the 2011 EIS.

Alternatives Under Consideration

GSA has preliminarily identified one action alternative that may be assessed in the SEIS:

• Alternative 1: Full Build—Construct the facilities as described in the Preferred Action Alternative assessed in the 2011 EIS and modified by the 2018 project updates.

The No Action Alternative will also be considered to satisfy federal requirements for analyzing “no action” under NEPA. Analysis of this alternative will provide a baseline for comparison with impacts from Alternative 1.

The SEIS will address the potential environmental impacts of the proposed alternatives on environmental resources including geology and soils, water resources, biological resources, air quality and climate change, noise, traffic and transportation, land use and visual resources, cultural resources, utilities, and human health and safety. The EIS will also address the socioeconomic effects of the project, as well as impacts on environmental justice populations. Impacts may occur from air emissions, noise, and traffic delays associated with construction; as well as soil disturbance from earth moving activities and resultant sedimentation of nearby waterways. Long term benefits to traffic and transportation, air quality, and the local economy are expected from operations of the expanded and modernized LPOE and associated improved traffic flows.

William Renner,
Director, Facilities Management and Services Programs Division, Great Lakes Region 5, U.S. General Services Administration.

[FR Doc. 2022-26834 Filed 12-8-22; 8:45 am]

BILLING CODE 6820-CF-P